ENVIRONMENTAL PROTECTION AGENCY

[EPA-HQ-OAR-2007-1182; FRL-9915-89-OEI]

Information Collection Request Submitted to OMB for Review and Approval; Comment Request; Emissions Certification and Compliance Requirements for Nonroad Compression-Ignition Engines and On-Highway Heavy Duty Engines

AGENCY: Environmental Protection Agency (EPA).

ACTION: Notice.

SUMMARY: The Environmental Protection Agency has submitted an information collection request (ICR) “Emissions Certification and Compliance Requirements for Nonroad Compression-ignition Engines and On-highway Heavy Duty Engines” (EPA ICR No. 1684.18, OMB Control No. 2060-0287), to the Office of Management and Budget (OMB) for review and approval in accordance with the Paperwork Reduction Act (44 U.S.C. 3501 et seq.). This is a proposed extension of the ICR, which is currently approved through August 31, 2014. Public comments were previously requested via the Federal Register (79 FR 21916) on April 18, 2014 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before September 26, 2014.

ADDRESSES: Submit your comments, referencing Docket ID Number Docket ID No. EPA-HQ-OAR-2007-1182, to (1) EPA online using www.regulations.gov, by email to a-and-r-Docket@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change with any personal information provided, unless the comment includes profanity, threats, information claimed to be CBI or other information whose disclosure is restricted by statute.

FOR FURTHER INFORMATION CONTACT: Nydia Yanira Reyes-Morales, EPA, 1200 Pennsylvania Avenue NW., Mail Code 6405J, Washington, DC 20460; telephone number: 202-343-9264; email address: reyes-morales.nydia@epa.gov.

SUPPLEMENTARY INFORMATION: Supporting documents which explain in detail the information that the EPA will be collecting are available in the public docket for this ICR. The docket can be viewed at www.regulations.gov or at the EPA Docket Center, WJC West Room 3334, 1301 Constitution Ave. NW., Washington, DC. The telephone number for the Docket Center is 202-566-1744. For further information, visit http://www.epa.gov/dockets.

Abstract: EPA collects information regarding heavy-duty on-highway engines and vehicles, nonroad compression-ignition engines, and categories 1 and 2 marine compression-ignition engines (collectively referred to as “engines”). Title II of the Clean Air Act, (42 U.S.C. 7521 et seq.; CAA), charges EPA with issuing certificates of conformity for those engines that comply with applicable emission standards. Such a certificate must be issued before engines may be legally introduced into commerce. The information collected is necessary to (1) issue certificates of compliance with emissions standards and requirements; and (2) verify compliance with various programs and regulatory provisions. To apply for a certificate of conformity, manufacturers are required to submit descriptions of their planned production engines, including detailed descriptions of emission control systems and test data.

The emission values achieved during certification testing may also be used in the Averaging, Banking, and Trading (ABT) Program, which allows engine manufacturers to bank credits for engine families that emit below the standard and use the credits to certify engine families that emit above the standard and trade banked credits with other manufacturers. Participation in the ABT program is voluntary.

The CAA also mandates EPA to verify that manufacturers have successfully translated their certified prototypes into mass produced engines; and that these engines comply with emission standards throughout their useful lives. EPA verifies this through `Compliance Programs' which include Production Line Testing (PLT), In-use Testing and Selected Enforcement Audits (SEAs). PLT, which only applies to marine engines, is a self-audit program that allows engine manufacturers to monitor their products' emissions profile with statistical certainty and minimize the cost of correcting errors through early detection. In-use testing allows manufacturers and EPA to verify compliance with emission standards throughout an engine family's useful life. Through SEAs, EPA verifies that test data submitted by engine manufacturers is reliable and testing is performed according to EPA regulations.

The Transition Program for Equipment Manufacturers (TPEM) ICR (2060-0369) was incorporated into this ICR, to consolidate compliance information requirements for nonroad compression ignition engines and equipment under a single ICR. Under TPEM, nonroad equipment manufacturers are allowed to delay compliance with Tier 4 standards for up to seven years if they comply with certain limitations, easing the impact of new emission standards on equipment manufacturers. This is achieved by allowing additional time for equipment manufacturers to redesign their products in response to changes in engine designs. Participation in the program is voluntary requires to keep records and submit annual reports.

Manufacturers may assert a claim of confidentiality over information provided to EPA, which is granted in accordance with the FOIA and EPA regulations at 40 CFR Part 2.

Form Numbers: HD/NR Engine Manufacturer Annual Production Report, 5900-90; AB&T Report for Heavy-duty On-highway Engines, 5900-134; AB&T Report for Nonroad Compression Ignition Engines, 5900-125; AB&T Report for Marine Compression-ignition Engines, Number in process; PLT Report for Marine CI CumSum, 5900-297; PLT Report for Marine CI Non-CumSum, 5900-298; TPEM Equipment Manufacturer Notification, 5900-242; TPEM Equipment Manufacturer Report, 5900-240; TPEM Engine Manufacturer Report, 5900-241; TPEM Bond Worksheet, 5900-239; Marine CI Application for Certification, 5900-124

Respondents/affected entities: Manufacturers of nonroad compression ignition (CI) engines and equipment, manufacturers and owners of marine CI engines and on-highway heavy-duty engines; owners of heavy-duty truck fleets.

Respondent's obligation to respond: Mandatory if engine manufactures wish to sell their products in the U.S. (42 U.S.C. 7521). Participation in ABT is voluntary, but participants must submit required information. Participation in TPEM is voluntary, but participants must submit required notifications and annual reports (40 CFR 1039.625 and 1039.626). If applicable to a particular engine family, compliance programs reporting is mandatory.

Estimated number of respondents: 2,528 (total).

Frequency of response: Quarterly, Annually, On Occasion, depending on the type of response.

Total estimated burden: 201,033 hours per year. Burden is defined at 5 CFR 1320.03(b).

Total estimated cost: $33,457,421 (per year), includes $17,371,995 annualized capital or maintenance and operational costs.

Changes in the estimates: There is an increase of 64,720 hours in the total estimated burden from the burden currently identified in the OMB Inventory of Approved ICR Burdens for the previous renewal.

Spencer Clark,
Acting Director, Collection Strategies Division.

[FR Doc. 2014-20285 Filed 8-26-14; 8:45 am]

BILLING CODE 6560-50-P